DEPARTMENT OF TRANSPORTATION

Federal Aviation Administration

14 CFR Part 71

[Docket No. FAA 2003-16070; Airspace Docket 03-ANM-05]

Establishment of Class E Airspace; Hamilton, MT

AGENCY: Federal Aviation Administration (FAA), DOT.

ACTION: Final rule; correction.

SUMMARY: This action corrects an error in the geographic coordinates of a final rule that was published in the Federal Register on March 8, 2004 (69 FR 10605), Airspace Docket 03-ANM-05.

DATES: Effective Date: August 5, 2004.

FOR FURTHER INFORMATION CONTACT: Ed Haeseker, Air Traffic Division, Federal Aviation Administration, 1601 Lind Avenue, SW., Renton, Washington 98055-4056; telephone (425) 227-2527.

SUPPLEMENTARY INFORMATION:

History

Airspace Docket 03-ANM-05, published on March 8, 2004 (69 FR 10605), established Class E airspace at Hamilton, MT. An error was discovered in the geographic coordinates for the Ravalli County Airport, Hamilton, MT, Class E airspace. This action corrects that error.

Correction to Final Rule

Accordingly, pursuant to the authority delegated to me, the geographic coordinates for the Class E airspace at Ravalli County Airport, Hamilton, MT, as published in the Federal Register on March 8, 2004 (69 FR 10605), are corrected as follows:

§ 71.1 [Corrected]

* * * * *

ANM UT E5 Hamilton, MT [Corrected]

Ravalli County Airport, MT

(Lat. 46°15′05″ N., long. 114°07′32″ W.)

That airspace extending upward from 700 feet above the surface of the earth within an 8 mile radius of Ravalli County Airport; that airspace extending upward from 1,200 feet above the surface of the earth bounded by a line beginning at lat. 46°42′00″ N., long. 114°11′00″ W., to lat. 46°42′00″ N., long. 113°52′00″ W., to lat. 46°19′30″ N., long. 113°52′00″ W., to lat. 45°51′30″ N., long. 114°01′00″ W., to lat. 45°51′30″ N., long. 114°11′00″ W., to lat. 46°20′00″ N., long. 114°30′00″ W.; thence to the beginning; excluding that airspace within Federal Airways.

* * * * *

Issued in Seattle, Washington, on May 17, 2004.
Raul C. Treviño,
Acting Manager, Air Traffic Division, Northwest Mountain Region.

[FR Doc. 04-12540 Filed 6-2-04; 8:45 am]

BILLING CODE 4910-13-M